DEPARTMENT OF THE INTERIOR

National Park Service

[NPS-PWR-PWRO-13663; PPPWSEKIO0/PX.DSEKI1303.00.1]

Draft Environmental Impact Statement for the Restoration of Native Species in High Elevation Aquatic Ecosystems Plan, Sequoia and Kings Canyon National Parks, California

AGENCY: National Park Service, Interior.

ACTION: Notice of availability.

SUMMARY: Pursuant to the National Environmental Policy Act of 1969 and consistent with the National Historic Preservation Act of 1966, the National Park Service (NPS) announces the availability of a Draft Environmental Impact Statement for the Restoration of Native Species in High Elevation Aquatic Ecosystems Plan (Restoration Plan/DEIS), Sequoia and Kings Canyon National Parks (SEKI or parks), California. The Restoration Plan is needed to provide long-term management direction to restore and conserve high elevation aquatic species and ecosystems in the parks. The NPS is considering expanding the current high elevation aquatic ecosystem restoration program within SEKI to encompass additional sites and incorporate alternative treatment methods.

The Restoration Plan/DEIS identifies and evaluates the environmental impacts of four alternatives: the no action alternative; and three action alternatives including a preferred alternative. The Final Restoration Plan/Final EIS would be implemented over a period of 25 to 35 years, with an internal evaluation of management effectiveness scheduled every 5 to 10 years. The NPS is inviting public review of the document to solicit feedback on the proposed alternatives and to hear ideas and concerns for consideration in the Final EIS.

DATES: All written comments must be postmarked or transmitted not later than 60 days from the date of publication in the Federal Register of the Environmental Protection Agency's notice of filing and release of the Draft EIS. Upon confirmation of this date, SEKI will notify all entities on the project mailing list, and announcements about the public review period will be provided on the project Web site http://parkplanning.nps.gov/seki and distributed via local and regional press media.

ADDRESSES: The Restoration Plan/DEIS is available in electronic format online at http://parkplanning.nps.gov/seki and written comments may be submitted directly to this Web site. Written comments may also be submitted by mail, hand delivered, or faxed to: Superintendent, Sequoia and Kings Canyon National Parks, Attn: Aquatic Ecosystems Plan, 47050 Generals Highway, Three Rivers, CA 93271, Fax: 559-565-4202. Email comments will not be accepted.

Before including your address, phone number, email address, or other personal identifying information in your comment, you should be aware that your entire comment—including your personal identifying information—may be made publicly available at any time. While you can ask us in your comment to withhold your personal identifying information from public review, we cannot guarantee that we would be able to do so. All submissions from organizations and businesses, and individuals identifying themselves as representatives or officials of organizations or businesses, are made available for public inspection in their entirety.

FOR FURTHER INFORMATION CONTACT: Please contact the SEKI Office of Environmental Compliance and Planning at (559) 565-3102 to speak with an individual.

SUPPLEMENTARY INFORMATION: The purpose of this Restoration Plan/DEIS is to guide management actions by the NPS to restore and conserve native species diversity and ecological function to selected high elevation aquatic ecosystems that have been adversely impacted by human activities, and to increase the resistance and resilience of these species and ecosystems to human induced environmental modifications such as nonnative fish, disease, and unprecedented climate change. The overall goal of the Restoration Plan/DEIS is to restore clusters of water bodies to a fishless state in strategic locations across SEKI to create high elevation ecosystems having more favorable habitat conditions for the persistency of native species and ecosystem processes.

Action is needed at this time: (1) Because nonnative fish have severely reduced native biological diversity and disrupted ecological function; (2) to prevent the extinction of two species of mountain yellow-legged frogs (Rana muscosa and Rana sierrae; MYLF) and to restore MYLF populations to many locations in the parks where they have gone extinct; (3) to enable the NPS to fulfill its mission and policy directives to conserve native animals, plants and processes found in SEKI's aquatic ecosystems; (4) because large scale restoration of more complex habitat (areas containing large lakes or clusters of many lakes with many and/or large connecting stream sections) is critical for native species and ecosystem recovery; (5) to increase the resistance and resilience of native high elevation aquatic species and ecosystems to human induced environmental change; and, (6) to restore and protect the natural qualities of wilderness character.

The Restoration Plan/DEIS identifies and analyzes four alternatives: the no action (Alternative A); Prescription Treatment (Physical and Piscicide) Preceding Restoration (Alternative B, agency-preferred alternative); Physical Treatment Preceding Restoration (Alternative C); and Piscicide Treatment Preceding Restoration (Alternative D).

Alternative A (no action): This alternative describes current management of high elevation aquatic ecosystems in SEKI and provides a baseline for comparison against the action alternatives. Under Alternative A, the existing high elevation aquatic ecosystem restoration effort for 26 water bodies would be completed (anticipated to conclude in 2016), maintained and monitored, but no new fish eradication activities would be initiated. After all treatments are completed, self-sustaining nonnative trout populations would continue to exist in 549 water bodies and hundreds of miles of stream.

Alternatives B, C, and D (action alternatives) describe a range of reasonable and feasible approaches that either partially or fully meet the purpose and need for action and achieve the plan objectives. In addition, there are a number of activities described as common to all actions. These include development of criteria for the selection of basins for restoration; the development of criteria for selection of crew camp locations; ecosystem restoration and management, including protection and rebuilding extant population of MYLFs where opportunities still exist and reintroducing MYLFs to locations where populations have recently gone extinct; monitoring restoration work and ecosystem responses; continuing research; and fish disposal methods. The “minimum tools” necessary for accomplishing treatments in Wilderness are also identified.

Under Alternative B, a prescription (detailed plan of action) for restoration would be developed for each proposed restoration area. Physical treatment (gill netting, electrofishing, disturbing redds and/or temporarily covering redds with boulders) would be utilized. Piscicide treatment methods would be considered for water bodies determined infeasible for physical treatment. Based on current knowledge of the proposed fish eradication sites, physical treatment would be applied in 49 water bodies and 14 miles of streams in 15 basins, and piscicide treatment would be applied in 38 water bodies and 27 miles of streams in 11 basins. After all treatments are completed, self-sustaining nonnative trout populations would continue to exist in 462 water bodies and hundreds of miles of stream.

Under alternative C, only physical treatment methods would be used to eradicate nonnative fish by gill netting, electrofishing, disturbing and/or covering redds. Also, blasting rock to create vertical fish barriers in stream locations where natural barriers are inadequate to prevent fish movement may be considered. Physical treatment methods would be applied in 49 water bodies and 14 miles of streams. After all treatments are completed, self-sustaining nonnative trout populations would continue to exist in 500 water bodies and hundreds of miles of stream.

Alternative D emphasizes speed in recovering habitat because MYLF populations are declining rapidly. To achieve this, only piscicide treatment would be used for nonnative fish eradication. Properly applied, piscicides can eliminate fish from targeted water bodies in 1 to 2 years, in contrast to physical treatment methods which can take up to 6 years for lakes and up to 10 years for streams. Based on current knowledge of the proposed fish eradication sites, piscicide treatment would be used for 87 water bodies, approximately 41 miles of streams, and connecting fish-containing habitat as necessary. After all treatments are completed, self-sustaining nonnative trout populations would continue to exist in 462 water bodies and hundreds of miles of stream.

Decision Process: All comments received on the Restoration Plan/DEIS will be duly considered in preparing the Final EIS. The Final EIS is expected to be available in late spring 2014. A Record of Decision would be prepared no sooner than 30 days after release of the Final EIS. Because this is a delegated EIS, the official responsible for approving the final Restoration Plan is the Regional Director, Pacific West Region, National Park Service; subsequently the official responsible for implementation of the approved Restoration Plan is the Superintendent, Sequoia and Kings Canyon National Parks.

Dated: July 31, 2013.
Christine S. Lehnertz,
Regional Director, Pacific West Region.

[FR Doc. 2013-23642 Filed 9-30-13; 8:45 am]

BILLING CODE 4312-FF-P